DEPARTMENT OF THE INTERIOR

National Park Service

Notice of Intent to Repatriate Cultural Items: Northwest Museum Whitman College, Walla Walla, WA

AGENCY: National Park Service, Interior.

ACTION: Notice.

Notice is here given in accordance with the Native American Graves Protection and Repatriation Act (NAGPRA), 25 U.S.C. 3005, of the intent to repatriate cultural items in the possession of the Northwest Museum (also known as Maxey Museum), Whitman College, Walla Walla, WA, that meets the definition of “unassociated funerary objects” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

On February 15, 1907, cultural items from the collection of Reverend Myron Eells were donated to the Northwest Museum by his widow, Sarah Eells. Rev. Eells lived and collected in the Umatilla-Hermiston area. The cultural items in the Myron Eells Collection are catalogued as being from “Umatilla” or “Umatilla Landing,” which is believed to be Umatilla, OR. This area was the main village site of the Imatalamláma (Umatilla Tribe), one of the member tribes of the Confederated Tribes of the Umatilla Indian Reservation. Some of the objects were previously in the possession of J.H. Kunzie, a known collector of funerary objects from Umatilla burial areas at the confluence of the Umatilla and Columbia Rivers. This area has a large cemetery that had been looted for many years and several major excavations were done prior to the construction of the McNary and John Day Dams on the Columbia River. Therefore, based on provenience, collector history, and the nature of the objects, the museum reasonably believes the objects are unassociated funerary objects. The 10 unassociated funerary objects are 1 digging stick handle (Whit-E-0252); 1 lot of stone beads (Whit-E-0390); 1 lot of stone and tooth beads (Whit-E-0396); 1 charcoal point (Whit-E-0511); 3 projectile points (Whit-E-0631,Whit-E-0633, Whit-E-0638); 1 stone pipe (Whit-O-0016); and 2 Umatilla arrowheads (WHIT-E-0531).

On an unknown date, cultural items were removed from the Columbia River near the mouth of the Umatilla River. They were donated to the Northwest Museum by William Worthington in 1910. Based on provenience, similarity to other funerary objects, and tribal consultation evidence, the museum reasonably believes the cultural items are unassociated funerary objects. The seven unassociated funerary objects are stone scrapers (WHIT-O-0124 through Whit-O-0128), and grooved stones (Whit-0179 and Whit-O-0185).

In 1931, the Northwest Museum purchased two cultural items that were removed at the Umatilla gravel pit by Lee Hopkins. Through consultation evidence with the tribe, it is known that human remains have been previously found in this gravel pit. There are no human remains from this site in the possession of the museum. Therefore, the museum reasonably believes that the cultural items are unassociated funerary objects. The two unassociated funerary objects are a stone pestle (Whit-O-0135) and a stone mortar (Whit-O-0196).

Between 1925 and 1930, cultural items were removed from or near the village site of Wallula, WA, by various donors. This site was the main village site of the Waluulapam (Walla Walla Tribe), a member tribe of the Confederated Tribes of the Umatilla Indian Reservation. It is a heavily-excavated burial area, and is located at the mouth of the Walla Walla River and along the Columbia River. Therefore, based on provenience, similarity to other funerary objects, and tribal consultation evidence, the museum reasonably believes the cultural items are unassociated funerary objects. The 16 unassociated funerary objects are 1 stone resembling a human foot (WHIT-A-0039); 1 stone scraper (WHIT-BR-0076); 1 pestle (WHIT-BR-0089); and 13 stone implements (WHIT-BR-0040, WHIT-A-0035, WHIT-BR-0042, 0044, 0045, 0066-0071, 0093, 0094).

At an unknown date, a stone pestle (Whit-O-0137) was collected at the mouth of the Walla Walla River by Lew C. Greenwood. In 1922, the pestle was loaned to the Maxey Museum by Mr. Greenwood. Since that time, no one has come forward to claim the stone pestle and the museum and college have acquired legal possession of this artifact to facilitate the NAGPRA process. Based on provenience, the museum reasonably believes the stone pestle is an unassociated funerary object.

In 1908, a stone hammer (WHIT-U-0146) was removed from “opposite Memaloose Island, one-half mile from Wallula” (Mamalose translates to `burial place'),” by C.F. Renand. Based on provenience, similarity to other funerary objects, and tribal consultation evidence, the museum reasonably believes the stone hammer is an unassociated funerary object.

The enrolled members of the Confederated Tribes of the Umatilla Indian Reservation are direct descendants of the Imatalamláma (Umatilla), Waluulapam (Walla Walla), and Weyiiletpu (Cayuse) people who have lived, traveled, and are buried in their aboriginal territories of southeastern Washington and northeastern Oregon. They are described in the ethnographic literature as people who fished; gathered roots, berries, medicines, and other flora; and hunted on a seasonal-round basis (Ray 1938, Stern 1998, Suphan 1974, and Swindell 1942). Winter villages for the Imatalamláma, Weyiiletpu, and Waluulapam were located along the Columbia and Snake Rivers. In the summer, the tribes headed into the mountains adjacent to these rivers and tributaries to hunt, fish, and gather along the tributaries of the Walla Walla, Umatilla, John Day, Grande Ronde, Wallowa, Imnaha, Powder, and Burnt Rivers. Two major permanent winter villages, Imatalam and Waluula, were along the Columbia River at the mouths of the Umatilla and Walla Walla Rivers. Both of these sites were surrounded by burial areas which were looted or excavated over the course of many years. Many artifacts found their way into museum collections. The above mentioned cultural items are considered unassociated funerary objects by the Confederated Tribes of the Umatilla Indian Reservation due to their original location in known burial sites, and that they are similar to other funerary objects that have already been repatriated to them.

Officials of the Northwest Museum, Whitman College have determined that, pursuant to 25 U.S.C. 3001 (3)(B), the 37 cultural items described above are reasonably believed to have been placed with or near individual human remains at the time of death or later as part of the death rite or ceremony and are believed, by a preponderance of the evidence, to have been removed from a specific burial site of Native American individuals. Officials of the Northwest Museum, Whitman College also have determined that, pursuant to 25 U.S.C. 3001 (2), there is a relationship of shared group identity that can be reasonably traced between the unassociated funerary objects and the Confederated Tribes of the Umatilla Indian Reservation, Oregon.

Representatives of any other Indian tribe that believes itself to be culturally affiliated with the unassociated funerary objects should contact Nina Lerman, Director, Northwest Museum, Maxey Hall, Whitman College, 345 Boyer Ave., Walla Walla, WA 99362, telephone (509) 527-5888 or (509) 527-5798, before May 3, 2010. Repatriation of the unassociated funerary objects to the Confederated Tribes of the Umatilla Indian Reservation, Oregon may proceed after that date if no additional claimants come forward.

The Northwest Museum, Whitman College is responsible for notifying the Confederated Tribes of the Umatilla Indian Reservation, Oregon that this notice has been published.

Dated: March 16, 2010
Sherry Hutt,
Manager, National NAGPRA Program.

[FR Doc. 2010-7252 Filed 3-31-10; 8:45 am]

BILLING CODE 4312-50-S